COMMISSION ON CIVIL RIGHTS

Agenda and Notice of Public Meetings of the Delaware Advisory Committee

AGENCY: Commission on Civil Rights.

ACTION: Announcement of meetings.

SUMMARY: Notice is hereby given, pursuant to the provisions of the rules and regulations of the U.S. Commission on Civil Rights (Commission), and the Federal Advisory Committee Act (FACA), that monthly planning meetings of the Delaware Advisory Committee to the Commission will convene by conference call on the 1st Wednesdays of each month as follows: March 3, April 7, May 5, June 2, July 7, August 4, and September 1, 2021; all meetings will begin at 1:00 p.m. ET. The purpose of the meetings is for project planning and possible panel briefings.

DATES: 1st Wednesdays at 1:00 p.m.: March 3, April 7, May 5, June 2, July 7, August 4, and September 1, 2021.

Public Call-In Information: Conference call number: 1-800-367-2403 and conference call ID: 4195799.

FOR FURTHER INFORMATION CONTACT: Ivy L. Davis, at ero@usccr.gov or by phone at 202-376-7533.

SUPPLEMENTARY INFORMATION: Interested members of the public may listen to the discussion by calling the following toll-free conference call number: 1-800-367-2403 and conference call ID: 4195799. Please be advised that before placing them into the conference calls, the conference call operator may ask callers to provide their names, their organizational affiliations (if any), and email addresses (so that callers may be notified of future meetings). Callers can expect to incur charges for calls they initiate over wireless lines, and the Commission will not refund any incurred charges. Callers will incur no charge for calls they initiate over land-line connections to the toll-free telephone number herein.

Individuals who are deaf, deafblind and hard of hearing may also follow the proceedings by first calling the Federal Relay Service at 1-800-877-8339 and providing the Federal Relay Service operator with the conference call-in numbers: 1-800-822-2024 and conference call ID: 4195799.

Members of the public are invited to make brief statements during the Public Comment section of each meeting or to submit written comments. The comments must be received in the regional office approximately 30 days after each scheduled meeting via email to Ivy Davis at ero@usccr.gov. Persons who desire additional information may contact the Eastern Regional Office at (202) 376-7533.

Records and documents discussed during the meeting will be available for public viewing, as they become available, at www.facadatabase.gov. Persons interested in the work of this advisory committee are advised to go to the Commission's website, www.usccr.gov, or to contact the Eastern Regional Office at the above phone number or email address.

Agenda: 1st Wednesdays at 1:00 p.m. (ET): March 3, April 7, May 5, June 2, July 7, August 4, and September 1, 2021.

I. Welcome and Roll Call

II. Approval—Meeting Minutes

III. Project Planning and Possible Panel Briefings

IV. Other Business

V. Next Planning Meeting

VI. Public Comments

VII. Adjourn

Dated: February 5, 2021.
David Mussatt,
Supervisory Chief, Regional Programs Unit.

[FR Doc. 2021-02795 Filed 2-10-21; 8:45 am]

BILLING CODE P